FEDERAL COMMUNICATIONS COMMISSION

[MB Docket Nos. 20-401, 17-105; RM-11854; DA 22-429; FR ID 84763]

Media Bureau Seeks Comment on Recent Filings Concerning Use of FM Boosters for Geo-Target Content

AGENCY: Federal Communications Commission.

ACTION: Notice.

SUMMARY: In this document, the Media Bureau seeks public comment on recently filed technical information and other documents submitted after the March 12, 2021, close of the comment period in this proceeding.

DATES: Comments must be filed on or before June 6, 2022 and reply comments on or before June 21, 2022.

ADDRESSES: You may submit comments, identified by MB Docket Nos. 20-401 and 17-105, by any of the following methods:

• Electronic Filers: Comments may be filed electronically using the internet by accessing the ECFS: http://apps.fcc.gov/ecfs/.

• Paper Filers: Parties who choose to file by paper must file an original and one copy of each filing.

Filings can be sent by commercial overnight courier, or by first-class or overnight U.S. Postal Service mail. All filings must be addressed to the Commission's Secretary, Office of the Secretary, Federal Communications Commission.

• Commercial overnight mail (other than U.S. Postal Service Express Mail and Priority Mail) must be sent to 9050 Junction Drive, Annapolis Junction, MD 20701.

• U.S. Postal Service first-class, Express, and Priority mail must be addressed to 45 L Street NE, Washington, DC 20554.

• Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy.

People with Disabilities: To request materials in accessible formats for people with disabilities (braille, large print, electronic files, audio format), send an email to fcc504@fcc.gov or call the Consumer & Governmental Affairs Bureau at 202-418-0530 (voice), 202-418-0432 (TTY).

FOR FURTHER INFORMATION CONTACT: For additional information, contact Albert Shuldiner, Albert.Shuldiner@fcc.gov, or James Bradshaw, James.Bradshaw@fcc.gov, of the Media Bureau, Audio Division, (202) 418-2700. Press inquiries should be directed to Janice Wise, (202) 418-8165.

SUPPLEMENTARY INFORMATION: This is a synopsis of the Commission's document (Public Notice), in MB Docket Nos. 20-401 and 17-105; RM-11854; DA 22-429, released on April 18, 2022. The complete text of this document is available electronically via the search function on the FCC's Electronic Document Management System (EDOCS) web page at https://apps.fcc.gov/edocs_public/ (https://apps.fcc.gov/edocs_public/). Documents will be available electronically in ASCII, Microsoft Word, and/or Adobe Acrobat. Alternative formats are available for people with disabilities (Braille, large print, electronic files, audio format, etc.) and reasonable accommodations (accessible format documents, sign language interpreters, CART, etc.) may be requested by sending an email to fcc504@fcc.gov or calling the FCC's Consumer and Governmental Affairs Bureau at (202) 418-0530 (voice), (202) 418-0432 (TTY).

Synopsis

1. On December 1, 2020, the Commission released a Notice of Proposed Rulemaking, 86 FR 1909 (Jan. 11, 2021) (NPRM), in this proceeding, seeking comment on whether to modify the Commission's rules governing the operation of FM booster stations in certain limited circumstances to allow for geo-targeted content. The time period for filing comments and reply comments on the NPRM closed on March 12, 2021. Since that time, GeoBroadcast Solutions sought, and the Bureau has approved, experimental authority to test the technology in San Jose, California with station KSJO(FM), and in Jackson, Mississippi with station WRBJ-FM. As part of this authority, GeoBroadcast Solutions was required to file in the Commission's Electronic Comment Filing System (ECFS) technical reports on testing it conducted for both stations. Those reports contain detailed technical discussions about the operation of GeoBroadcast Solutions' booster technology, its compatibility with the Emergency Alert System, and its impact on digital FM broadcasts. This technical information was not available to the public at the time comments and reply comments were due.

2. In light of these recent developments and to provide a complete record on developments since the completion of the commenting cycle in this matter, the Media Bureau seeks public comment on these test reports, as well as other documents filed in this proceeding since March 12, 2021. Interested parties may file comments and reply comments by the dates listed above using ECFS or by submitting paper copies to the Commission's Office of the Secretary. Commenters should follow the comment filing instructions provided in paragraph 36 of the NPRM, 35 FCC Rcd 14213 (2020), 86 FR 1909 (Jan. 11, 2021).

Federal Communications Commission.
Thomas Horan,
Chief of Staff, Media Bureau.

[FR Doc. 2022-09627 Filed 5-4-22; 8:45 am]

BILLING CODE 6712-01-P